DEPARTMENT OF HOUSING AND URBAN DEVELOPMENT

[Docket No. FR-6262-N-01]

Housing Trust Fund Federal Register Allocation Notice; Fiscal Year 2021

AGENCY: Office of the Assistant Secretary for Community Planning and Development, HUD.

ACTION: Notice of Fiscal Year 2021 Funding Awards.

SUMMARY: The Housing and Economic Recovery Act of 2008 (HERA) established the Housing Trust Fund (HTF) to be administered by HUD. Pursuant to the Federal Housing Enterprises Financial Security and Soundness Act of 1992 (the Act), as amended by HERA, Division A, eligible HTF grantees are the 50 states, the District of Columbia, the Commonwealth of Puerto Rico, American Samoa, Guam, the Commonwealth of Northern Mariana Islands, and the United States Virgin Islands. In accordance with Section 1338(c)(4)(A) of the Act, this notice announces the formula allocation amount for each eligible HTF grantee.

FOR FURTHER INFORMATION CONTACT: Virginia Sardone, Director, Office of Affordable Housing Programs, Room 7164, Department of Housing and Urban Development, 451 Seventh Street SW, Washington, DC 20410-7000; telephone (202) 708-2684. (This is not a toll-free number.) A telecommunications device for hearing- and speech-impaired persons (TTY) is available at 800-877-8339 (Federal Information Relay Service). (This is a toll-free number).

SUPPLEMENTARY INFORMATION: Section 1131 of HERA Division A amended the Act to add a new section 1337 entitled “Affordable Housing Allocations” and a new section 1338 entitled “Housing Trust Fund.” HUD's implementing regulations are codified at 24 CFR part 93. Congress authorized the HTF with the stated purpose of: (1) Increasing and preserving the supply of rental housing for extremely low-income families with incomes between 0 and 30 percent of area median income and very low-income families with incomes between 30 and 50 percent of area median income, including homeless families, and (2) increasing homeownership for extremely low-income and very low-income families. Section 1337 of the Act provides for the HTF (and other programs) to be funded with an affordable housing set-aside by Fannie Mae and Freddie Mac. The total set-aside amount is equal to 4.2 basis points (.042 percent) of Fannie Mae and Freddie Mac's new mortgage purchases, a portion of which is for the HTF. Section 1338 of the Act directs HUD to establish, through regulation, the formula for distribution of amounts made available for the HTF. The statute specifies the factors to be used for the formula and priority for certain factors. The factors and methodology HUD uses to allocate HTF funds among eligible grantees are established in the HTF regulation. The funding announced for Fiscal Year 2021 through this notice is $692,898,860.92. Appendix A to this notice provides the names of the grantees and the amounts of the awards.

Principal Deputy Assistant Secretary (PDAS) for the Office of Community Planning and Development, James A. Jemison, having reviewed and approved this document, is delegating the authority to electronically sign this document to submitter, Aaron Santa Anna, who is the Federal Register Liaison for HUD, for purposes of publication in the Federal Register.

Aaron Santa Anna,
Federal Register Liaison for the Department of Housing and Urban Development.

Appendix A: FY 2021 Housing Trust Fund Allocation Amounts

Grantee | FY 2021 allocation
1 Alabama | $6,690,654
2 Alaska | 3,101,884
3 Arizona | 11,477,467
4 Arkansas | 4,123,109
5 California | 126,579,066.92
6 Colorado | 10,030,779
7 Connecticut | 8,448,637
8 Delaware | 3,101,884
9 District of Columbia | 3,101,884
10 Florida | 35,072,600
11 Georgia | 17,459,897
12 Hawaii | 3,480,969
13 Idaho | 3,101,884
14 Illinois | 30,702,615
15 Indiana | 10,674,428
16 Iowa | 4,363,876
17 Kansas | 4,207,374
18 Kentucky | 6,716,410
19 Louisiana | 8,124,196
20 Maine | 3,101,884
21 Maryland | 9,975,009
22 Massachusetts | 16,987,942
23 Michigan | 17,158,160
24 Minnesota | 9,252,948
25 Mississippi | 4,012,018
26 Missouri | 10,536,095
27 Montana | 3,101,884
28 Nebraska | 3,101,884
29 Nevada | 6,754,852
30 New Hampshire | 3,101,884
31 New Jersey | 24,354,671
32 New Mexico | 3,186,129
33 New York | 73,383,641
34 North Carolina | 17,493,694
35 North Dakota | 3,101,884
36 Ohio | 21,186,076
37 Oklahoma | 5,251,581
38 Oregon | 9,816,938
39 Pennsylvania | 24,134,348
40 Rhode Island | 3,101,884
41 South Carolina | 7,756,516
42 South Dakota | 3,101,884
43 Tennessee | 9,736,855
44 Texas | 41,750,738
45 Utah | 3,268,898
46 Vermont | 3,101,884
47 Virginia | 14,340,031
48 Washington | 15,685,029
49 West Virginia | 3,101,884
50 Wisconsin | 11,159,627
51 Wyoming | 3,101,884
52 Puerto Rico | 3,202,552
53 America Samoa | 42,047
54 Guam | 340,124
55 Northern Marianas | 187,243
56 Virgin Islands | 366,645
Total | $692,898,860.92

[FR Doc. 2021-08022 Filed 4-19-21; 8:45 am]

BILLING CODE 4210-67-P